DEPARTMENT OF TRANSPORTATION

Federal Aviation Administration

14 CFR Part 71

[Docket No. FAA-2023-0214; Airspace Docket No. 23-AEA-05]

RIN 2120-AA66

Amendment of Class D Airspace and Amendment of Class E Airspace, Harrisburg, PA

AGENCY: Federal Aviation Administration (FAA), DOT.

ACTION: Final rule.

SUMMARY: This action amends Class D airspace, Class E surface airspace, and Class E airspace, which is designated as an extension to a Class D surface area at Capital City Airport, Harrisburg, PA. In addition, this action makes administrative updates.

DATES: Effective 0901 UTC, July 11, 2024. The Director of the Federal Register approves this incorporation by reference action under 1 CFR part 51, subject to the annual revision of FAA Order JO 7400.11 and publication of conforming amendments.

ADDRESSES: FAA Order JO 7400.11H, Airspace Designations, Reporting Points, and subsequent amendments online at www.faa.gov/air_traffic/publications/. For further information, contact the Airspace Policy Group, Federal Aviation Administration, 800 Independence Avenue SW, Washington, DC 20591; telephone: (202) 267-8783.

FOR FURTHER INFORMATION CONTACT: John Fornito, Operations Support Group, Eastern Service Center, Federal Aviation Administration, 1701 Columbia Avenue, College Park, GA 30337; telephone: (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it updates airspace descriptions.

History

The FAA published a notice of proposed rulemaking for Docket No. FAA 2023-0214 in the Federal Register (88 FR 54956; August 14, 2023), proposing to amend Class D airspace, remove Class D airspace, amend Class E surface airspace, and amend Class E airspace designated as an extension to a Class D surface area at Capital City Airport, Harrisburg, PA. Interested parties were invited to participate in this rulemaking effort by submitting written comments on the proposal to the FAA. No comments were received.

Differences From the NPRM

After publishing the NPRM, the FAA determined that it should have removed the Class D airspace designation for Harrisburg International Airport. The FAA is establishing Class C airspace at Harrisburg International Airport through a separate regulatory action, rendering the Class D designation obsolete. Accordingly, this rule removes that airspace.

Incorporation by Reference

Class D airspace and Class E airspace are published in paragraphs 5000, 6002, and 6004 of FAA Order JO 7400.11, Airspace Designations and Reporting Points, incorporated by reference in 14 CFR 71.1 annually. This document amends the current version of that order, FAA Order JO 7400.11H, dated August 11, 2023, and effective September 15, 2023. FAA Order JO 7400.11H is publicly available as listed in the ADDRESSES section of this document. These amendments will be published in the next FAA Order JO 7400.11 update. FAA Order JO 7400.11H lists Class A, B, C, D, and E airspace areas, air traffic service routes, and reporting points.

The Rule

The FAA proposes an amendment to 14 CFR part 71 by:

Amending the Class D airspace for Capital City Airport, Harrisburg, PA, by removing excessive verbiage from the description header per order FAA 7400.2. Also, this action would add the Harrisburg International Airport to the Class D description header and legal description since it's used in describing the Class D airspace. In addition, this action would update the geographical coordinates of the airport to coincide with the FAA's database. Also, the legal description of the Capital City Airport would be amended to that airspace extending upward from the surface up to but not including 1,600 feet MSL beginning at the intersection of the Capital City Airport's 106° bearing and 1.5-mile radius direct to Lat. 40°14′13″ N, long. 76°53′23″ W direct to the intersection of the Capital City Airport's 287° bearing and Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the point of beginning; and that airspace extending upward from the surface up to but not including 2,600 feet MSL beginning at a line bearing 191° from a point at Lat. 40°12′23″ N, long. 76°48′37″ W, extending from said point to the point of intersection with the Capital City Airport's 4-mile radius, thence clockwise along the Capital City Airport's 4-mile radius to the intersection of the Capital City Airport's 287° bearing, thence direct to Lat. 40°14′13″ N, long. 76°53′23″ W, thence direct to the point of beginning. Also, this action makes editorial changes by replacing the terms Notice to Airmen with Notice to Air Missions and Airport/Facility Directory with Chart Supplement.

This would remove the Class D airspace listed under the header Harrisburg International Airport, Harrisburg, PA. The FAA intends to establish Class C airspace at Harrisburg International Airport through a separate regulatory action.

The Class E surface airspace for Capital City Airport, Harrisburg, PA, is amended by removing excessive verbiage in the description header per order FAA 7400.2. Also, this action adds the Harrisburg International Airport to the Class E surface airspace description header and legal description since it is used in describing the Class E surface airspace. In addition, this action amends the airport's geographical coordinates to coincide with the FAA's database. Also, the legal description of the Capital City Airport is amended to that airspace extending upward from the surface beginning at a line bearing 191° from a point at Lat. 40°12′23″ N, long. 76°48′37″ W, extending from said point to the point of intersection with the Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the intersection of the Capital City Airport's 1.5-mile radius and the Capital City Airport's 106° bearing, thence direct to Lat. 40°12′23″ N, long. 76°48′37″ W. This action would also remove the extension to the southwest as it is unnecessary, (the Class E airspace designated as an extension to a Class D surface area includes this airspace). Also, this action makes the editorial changes, replacing the terms Notice to Airmen with Notice to Air Missions and Airport/Facility Directory with Chart Supplement.

The Class E airspace designated as an extension to a Class D surface area for Capital City Airport is amended by removing excessive verbiage in the description header per order FAA 7400.2 and updating the airport's geographical coordinates to coincide with the FAA's database. In addition, the references using runways and miles off the runways are replaced with the bearings and mileage from the airport reference point; the legal description is amended to that airspace extending upward from the surface within 1.8 miles on each side of the Capital City Airport's 251° bearing extending from the airport's 4-mile radius to 7.5 miles southwest of the airport. Also, excessive verbiage in the legal description is removed since it is unnecessary.

Controlled airspace is necessary for the safety and management of instrument flight rules (IFR) operations in the area. This action is necessary to support IFR operations in the area.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order JO 7400.11H, Airspace Designations and Reporting Points, dated August 11, 2023, and effective September 15, 2023, is amended as follows:

Paragraph 5000 Class D Airspace.

* * * * *

AEA PA D Harrisburg, PA [Amended]

Capital City Airport, PA

(Lat 40°13′02″ N, long 76°51′05″ W)

Harrisburg International Airport, PA

(Lat 40°11′35″ N, long 76°45′45″ W)

That airspace extending upward from the surface up to but not including 1,600 feet MSL beginning at the intersection of the Capital City Airport's 106° bearing and 1.5-mile radius direct to Lat 40°14′13″ N, long 76°53′23″ W direct to the intersection of the Capital City Airport's 287° bearing and Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the point of beginning; and that airspace extending upward from the surface up to but not including 2,600 feet MSL beginning at a line bearing 191° from a point at Lat 40°12′23″ N, long 76°48′37″ W, extending from said point to the point of intersection with the Capital City Airport's 4-mile radius, thence clockwise along the Capital City Airport's 4-mile radius to the intersection of the Capital City Airport's 287° bearing, thence direct to Lat 40°14′13″ N, long 76°53′23″ W, thence direct to the point of beginning. This Class D airspace area is effective during the specific dates and times established in advance by a Notice to Air Missions. The effective date and time will thereafter be continuously published in the Chart Supplement.

* * * * *

AEA PA E2 Harrisburg, PA [Amended]

Capital City Airport, PA

(Lat 40°13′02″ N, long 76°51′05″ W)

Harrisburg International Airport, PA

(Lat 40°11′35″ N, long 76°45′45″ W)

That airspace extending upward from the surface beginning at a line bearing 191° from a point at Lat 40°12′23″ N, long 76°48′37″ W, extending from said point to the point of intersection with the Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the intersection of the Capital City Airport's 1.5-mile radius and the Capital City Airport's 106° bearing, thence direct to Lat 40°12′23″ N, long 76°48′37″ W. This Class E airspace area is effective during the specific dates and times established in advance by a Notice to Air Missions. The effective date and time will thereafter be continuously published in the Chart Supplement.

* * * * *

Paragraph 6004 Class E Airspace Designated as an Extension to Class D or E Surface Area.

* * * * *

AEA PA E4 Harrisburg, PA [Amended]

Capital City Airport, PA

(Lat 40°13′02″ N, long 76°51′05″ W)

That airspace extending upward from the surface within 1.8 miles each side of the Capital City Airport's 251° bearing extending from the airport's 4-mile radius to 7.5 miles southwest of the airport.

* * * * *

Issued in College Park, Georgia, on May 2, 2024,
Patrick Young,
Manager, Airspace & Procedures Team North, Eastern Service Center, Air Traffic Organization.

[FR Doc. 2024-09873 Filed 5-14-24; 8:45 am]

BILLING CODE 4910-13-P